DEPARTMENT OF COMMERCE

Foreign-Trade Zones Board

[Docket 30-2004]

Foreign-Trade Zone 158—Vicksburg/Jackson, MS; Application for Expansion

An application has been submitted to the Foreign-Trade Zones Board (the Board) by the Vicksburg/Jackson Foreign Trade Zone, Inc., grantee of FTZ 158, requesting authority to expand its zone at sites in the Lee County area, adjacent to the Memphis, Tennessee, Customs port of entry. The application was submitted pursuant to the provisions of the Foreign-Trade Zones Act, as amended (19 U.S.C. 81a-81u), and the regulations of the Board (15 CFR Part 400). It was formally filed on July 28, 2004.

FTZ 158 was approved on April 11, 1989 (Board Order 430, 54 FR 15480, 4/18/89), and expanded on October 23, 1994 (Board Order 707, 59 FR 54885, 11/2/94). The zone project currently consists of nine sites (5,547 acres) in the central and north Mississippi area: Site 1 (353 acres)—Emmitte W. Haining Industrial Center within the Port of Vicksburg Terminal, Warren County; Site 2 (2,118 acres)—within the Jackson International Airport complex, Jackson; Site 3 (1,286 acres)—Ceres Research and Industrial Interplex located on Interstate 20, Warren County; Site 4 (230 acres)—Vicksburg Airport Industrial Park, Vicksburg; Site 5 (544 acres)—Greater Jackson Industrial Center located on Interstate 55, south of Jackson (Hinds County); Site 6 (559 acres)—Hawkins Field Industrial Park, south of Interstate 220/U.S. 49 Interchange, Jackson; Site 7 (350 acres)—Northwest Industrial Park located one mile north of Interstate 220/U.S. 49 Interchange, north of Jackson (Hinds County); Site 8 (39 acres)—within the Senatobia Industrial Park, adjacent to Interstate 55 in Senatobia (Tate County); and, Site 9 (64 acres, 3 parcels)—located within the Greenville Industrial Park at 1265 Wasson Drive, 1945 North Theobald Street, and 1795 North Theobald Street in Greenville (Washington County).

The applicant is now requesting authority for a major expansion of the zone as described below. The proposal requests authority to expand the zone project to include sites in the Lee County area:

Proposed Site 10—989 acres within the 1,479-acre Airport Industrial Park, located adjacent to the Tupelo Regional Airport, City of Tupelo;

Proposed Site 11—277 acres within the 403-acre South Green Industrial complex located adjacent to U.S. Highway 45 and the Kansas City Southern Railroad and South Green Street, City of Tupelo;

Proposed Site 12—5 acres within the 36-acre South Green Extend Industrial Complex located along South Green Street immediately west of South Gloster Street (MS 145), City of Tupelo;

Proposed Site 13—56 acres within the 164-acre Tupelo Industrial Center located at the intersection of Eason Boulevard and the Burlington Northern Railroad, City of Tupelo;

Proposed Site 14—128 acres within the 990-acre Burlington Northern Industrial Park located along the Burlington Northern Railroad and U.S. Highway 78 (I-22) and MS Highway 178 interchange, City of Tupelo/Lee County;

Proposed Site 15—699 acres within the 1315-acre Harry A. Martin North Lee Industrial Complex located at the intersection of U.S. Highway 45 and Pratts Road, City of Baldwyn/Lee County;

Proposed Site 16—284 acres within the 429-acre Turner Industrial Park located at the U.S. Highway 45 and MS Highway 145 interchange adjacent and south of the City of Saltillo; and,

Proposed Site 17—540 acres within the 1066-acre Tupelo Lee Industrial Park South located at the U.S. Highway 45 and Brewer Road interchange south of the City of Verona.

The applicant is also requesting that 124 acres at Site 2 (Jackson International Airport Complex) be restored to zone status (new total acreage—2,242 acres). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue, NW., Washington, DC 20230.

The closing period for their receipt is October 5, 2004. Rebuttal comments in response to material submitted during the foregoing period may be submitted during the subsequent 15-day period (to October 20, 2004).

A copy of the application and accompanying exhibits will be available for public inspection at the Office of the Foreign-Trade Zones Board's Executive Secretary at the first address listed above, and at the Tupelo/Lee County Community Development Foundation, 300 West Main Street, Tupelo, MS 38804.

Dated: July 30, 2004.
Dennis Puccinelli,
Executive Secretary.

[FR Doc. 04-18043 Filed 8-5-04; 8:45 am]

BILLING CODE 3510-DS-P